NUCLEAR REGULATORY COMMISSION

[Docket Nos. 50-18 and 50-183; NRC-2015-0169]

GE Hitachi Nuclear Energy; Vallecitos Nuclear Center

AGENCY: Nuclear Regulatory Commission.

ACTION: Partial site release; public meeting and request for comment.

SUMMARY: The U.S. Nuclear Regulatory Commission (NRC) is considering a request from GE Hitachi Nuclear Energy to approve the release from their NRC power reactor licenses of a portion of their Vallecitos Nuclear Center property for unrestricted use. The NRC will approve or deny the request based on its review of the request and the result of an NRC confirmatory survey of the property proposed for release. Approval of the request would allow GE to sell the released portion of the property to a non-GE controlled entity. The NRC is requesting public comment on the contemplated action and invites stakeholders and interested persons to participate. The NRC plans to hold a public meeting to promote full understanding of the contemplated action and facilitate public comment.

DATES: Submit comments by October 5, 2015. Comments received after this date will be considered if it is practical to do so, but the Commission is able to ensure consideration only for comments received before this date. A public meeting will be held on July 22, 2015.

ADDRESSES: You may submit comments by any of the following methods (unless this document describes a different method for submitting comments on a specific subject):

• Federal Rulemaking Web site: Go to http://www.regulations.gov and search for Docket ID NRC-2015-0169. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Jack D. Parrott, Senior Project Manager, Office of Nuclear Material Safety and Safeguards; telephone: 301-415-6634; email: Jack.Parrott@nrc.gov; U.S. Nuclear Regulatory Commission, Washington, DC 20555-0001.

SUPPLEMENTARY INFORMATION:

I. Obtaining Information and Submitting Comments

A. Obtaining Information

Please refer to Docket ID NRC-2015-0169 when contacting the NRC about the availability of information for this action. You may obtain publicly-available information related to this action by any of the following methods:

• Federal rulemaking Web site: Go to http://www.regulations.gov and search for Docket ID NRC-2015-0169.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

I. Background

The U.S. Nuclear Regulatory Commission (NRC) has received, by letter dated April 24, 2015 (ADAMS Accession No. ML15114A437), a request from GE Hitachi Nuclear Energy (GE or licensee), to approve a partial site release of its Vallecitos Nuclear Center (VNC) site located at 6705 Vallecitos Rd, Sunol, California. The VNC site contains two facilities licensed as power reactors under part 50, “Domestic Licensing of Production and Utilization Facilities,” of Title 10 of the Code of Federal Regulations (10 CFR). Both units, Vallecitos Boiling Water Reactor (VBWR), NRC License DPR-1, Docket 50-18, and Empire State Atomic Development Agency Vallecitos Experimental Superheat Reactor (EVESR), NRC License DR-10, Docket 50-183, are shut down per NRC regulations in 10 CFR 50.82(a). These units are in “SAFSTOR” mode awaiting the termination of the power reactor licenses. In accordance with 10 CFR 50.83, “Release of Part of a Power Reactor Facility or Site for Unrestricted Use,” the licensee requests release from the NRC licenses, for unrestricted use, of an approximately 610-acre parcel, in the northern section of the approximately 1,600 acre VNC site. The licensee is declaring the parcel as “non-impacted” per the definition in 10 CFR 50.2. Approval of the request will allow GE to sell the released portion to a non-GE controlled entity.

The NRC will determine whether the licensee has adequately evaluated the effect of releasing the property per the requirements of 10 CFR 50.83(a)(1), and determine whether the licensee's classification of any released areas as “non-impacted” is adequately justified. If the NRC determines that the licensee's submittal is adequate, the NRC will inform the licensee in writing that the release is approved.

II. Public Meeting

The NRC will conduct a public meeting to discuss GE's request for approval of the partial site release.

The meeting will be held on Wednesday, July 22, 2015, from 6:30 p.m. until 8:30 p.m., Pacific Daylight Time, at the Holiday Inn Dublin, 6680 Regional St., Dublin, CA 94568.

This is a Category 3 public meeting where stakeholders are invited to fully engage NRC staff to provide a range of views, information, concerns and suggestions with regard to regulatory issues concerning the proposed action. After the licensee and NRC staff presentation portions of the meeting, the public is allowed to speak and ask questions. Comments can be provided orally or in writing to the NRC staff present at the meeting.

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

Stakeholders should monitor the NRC's public meeting Web site for information about the public meeting at: http://www.nrc.gov/public-involve/public-meetings/index.cfm. The agenda will be posted no later than 10 days prior to the meeting.

Dated at Rockville, Maryland, this 10th day of July, 2015.
For the Nuclear Regulatory Commission.
Andrew Persinko,
Deputy Director, Division of Decommissioning, Uranium Recovery, and Waste Programs, Office of Nuclear Material Safety and Safeguards.

[FR Doc. 2015-17763 Filed 7-17-15; 8:45 am]

BILLING CODE 7590-01-P